DEPARTMENT OF ENERGY

Federal Energy Regulatory Commission

[Project No. 14835-001]

Notice of Surrender of Preliminary Permit; Merchant Hydro Developers, LLC

Take notice that Merchant Hydro Developers, LLC, permittee for the proposed Susan Russ Memorial Pumped Storage Hydroelectric Project, has requested that its preliminary permit be terminated. The permit was issued on June 6, 2017, and would have expired on May 31, 2020.¹ The project would have been located near the town of Manhattan in Tioga County, Pennsylvania.

¹ 159 FERC 62,245 (2017).

The preliminary permit for Project No. 14835 will remain in effect until the close of business, January 26, 2018. But, if the Commission is closed on this day, then the permit remains in effect until the close of business on the next day in which the Commission is open.² New applications for this site may not be submitted until after the permit surrender is effective.

² 18 CFR 385.2007(a)(2) (2017).

Dated: December 27, 2017.
Nathaniel J. Davis, Sr.,
Deputy Secretary.

[FR Doc. 2017-28346 Filed 1-2-18; 8:45 am]

BILLING CODE 6717-01-P